DEPARTMENT OF ENERGY

Federal Energy Regulatory Commission

Combined Notice of Filings #1

Take notice that the Commission received the following electric corporate filings:

Docket Numbers: EC13-91-001.

Applicants: Florida Power & Light Company.

Description: Notice of Non-Material Change in Circumstances of Florida Power & Light Company.

Filed Date: 11/21/17.

Accession Number: 20171121-5173.

Comments Due: 5 p.m. ET 12/12/17.

Take notice that the Commission received the following electric rate filings:

Docket Numbers: ER15-2594-006; ER17-953-002.

Applicants: South Central MCN LLC.

Description: Compliance Filing of South Central MCN, LLC.

Filed Date: 11/20/17.

Accession Number: 20171120-5186.

Comments Due: 5 p.m. ET 12/11/17.

Docket Numbers: ER17-568-001.

Applicants: Midcontinent Independent System Operator, Inc.

Description: Compliance filing: 2017-11-22_Attachment X Compliance for Quarterly Operating Limits to be effective 2/15/2017.

Filed Date: 11/22/17.

Accession Number: 20171122-5032.

Comments Due: 5 p.m. ET 12/13/17.

Docket Numbers: ER17-723-001.

Applicants: NRG Power Marketing LLC.

Description: Report Filing: Refund Report—Informational Filing (Docket No. EL17-49-000) to be effective N/A.

Filed Date: 11/22/17.

Accession Number: 20171122-5056.

Comments Due: 5 p.m. ET 12/13/17.

Docket Numbers: ER18-326-000.

Applicants: Midcontinent Independent System Operator, Inc.

Description: § 205(d) Rate Filing: 2017-11-22_SA 3061 MidAmerican-MidAmerican GIA (J475 J555) to be effective 11/7/2017.

Filed Date: 11/22/17.

Accession Number: 20171122-5002.

Comments Due: 5 p.m. ET 12/13/17.

Docket Numbers: ER18-327-000.

Applicants: PJM Interconnection, L.L.C.

Description: § 205(d) Rate Filing: Original Service Agreement No. 4847, Queue Position No. AB2-084 to be effective 10/25/2017.

Filed Date: 11/22/17.

Accession Number: 20171122-5064.

Comments Due: 5 p.m. ET 12/13/17.

Take notice that the Commission received the following PURPA 210(m)(3) filings:

Docket Numbers: QM18-3-000.

Applicants: Nebraska Public Power District, Nebraska Electric Generation and Transmission Cooperative, Inc.

Description: Joint Request of Nebraska Public Power District, et al. for Partial Waiver of PURPA Obligations of Electric Utilities.

Filed Date: 11/20/17.

Accession Number: 20171120-5184.

Comments Due: 5 p.m. ET 12/18/17.

Docket Numbers: QM18-4-000.

Applicants: Nebraska Public Power District, Nebraska Electric Generation and Transmission Cooperative, Inc.

Description: Joint Request of Nebraska Public Power District, et al. to Terminate Mandatory Purchase Obligation under PURPA.

Filed Date: 11/20/17.

Accession Number: 20171120-5185.

Comments Due: 5 p.m. ET 12/18/17.

Take notice that the Commission received the following electric reliability filings:

Docket Numbers: RR18-1-000.

Applicants: North American Electric Reliability Corporation.

Description: Petition of the North American Electric Reliability Corporation for Approval of Proposed Revisions to Appendix 3D to the Rules of Procedure.

Filed Date: 11/21/17.

Accession Number: 20171121-5170.

Comments Due: 5 p.m. ET 12/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2017.
Nathaniel J. Davis, Sr.,
Deputy Secretary.

[FR Doc. 2017-25755 Filed 11-28-17; 8:45 am]

BILLING CODE 6717-01-P